ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plans previously submitted by Connecticut, Montana, Oklahoma, and South Dakota.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254 (a)(11) through (13). HAVA sections 254(a)(11)(A) and 255 require EAC to publish such updates. This is Connecticut's first revision, Montana's second revision, Oklahoma's second revision, and South Dakota's third revision to its State plan.

The revised State plans from Connecticut, Montana, Oklahoma, and South Dakota address changes in the respective budgets of the previously submitted State plans. In accordance with HAVA section 254(a)(12), all the State plans submitted for publication provide information on how the respective State succeeded in carrying out its previous State plan. The States all confirm that these changes to their respective State plans were developed and submitted to public comment in accordance with HAVA sections 254(a)(11), 255, and 256.

Upon the expiration of thirty days from September 9, 2008, the States are eligible to implement the changes addressed in the plans that are published herein, in accordance with HAVA section 254(a)(11)(C).

EAC wishes to acknowledge the effort that went into revising this State plan and encourages further public comment, in writing, to the State election official listed below.

Chief State Election Officials

The Honorable Susan Bysiewicz, Secretary of State, State Capitol, 210 Capitol Avenue, Suite 104, Hartford, Connecticut 06106, Phone: (860) 509-6200, Fax: (860) 509-6209.

The Honorable Brad Johnson, Secretary of State, P.O. Box 202801, Helena, Montana 59620-2801, Phone: (406) 444-2034, Fax: (406) 444-3976.

Mr. Michael Clingman, Secretary, Oklahoma State Election Board, Room B-6, State Capitol Building, P.O. Box 53156, Oklahoma City, Oklahoma 73152, Phone: (405) 521-2391, Fax: (405) 521-6457.

The Honorable Chris Nelson, Secretary of State, State Capitol, Suite 204, 500 East Capitol Avenue, Pierre, South Dakota 57501-5070, Phone: (605) 773-3537, Fax: (605) 773-6580, e-mail: sdsos@state.sd.us.

Thank you for your interest in improving the voting process in America.

Dated: August 25, 2008.
Thomas R. Wilkey,
Executive Director, U.S. Election Assistance Commission.

BILLING CODE 6820-KF-P

[FR Doc. E8-20274 Filed 9-8-08; 8:45 am]

BILLING CODE 6820-KF-C